COMMISSION ON CIVIL RIGHTS

Notice of Public Meeting of the Louisiana Advisory Committee; Cancellation

AGENCY: Commission on Civil Rights.

ACTION: Notice; cancellation of meeting.

SUMMARY: The Commission on Civil Rights published a notice in the Federal Register concerning a meeting of the Louisiana Advisory Committee.

DATES: The meeting scheduled for Wednesday, December 21, 2022, at 2:00 p.m. (ET) is cancelled.

FOR FURTHER INFORMATION CONTACT: Ivy Davis, (202) 539-8468.

SUPPLEMENTARY INFORMATION: The notice is in the Federal Register of Tuesday, September 13, 2022, in FR Doc. 2022-19751, in the first column of page 55989. idavis@usccr.gov.

Dated: December 2, 2022.
David Mussatt,
Supervisory Chief, Regional Programs Unit.

[FR Doc. 2022-26619 Filed 12-7-22; 8:45 am]

BILLING CODE P